DEPARTMENT OF AGRICULTURE

Forest Service

Proposed Recreation Fee Site

AGENCY: Forest Service, Agriculture (USDA).

ACTION: Notice.

SUMMARY: The National Forests in Florida are proposing to establish a recreation fee site. Proposed recreation fees collected at the proposed recreation fee site would be used for operation, maintenance, and improvement of the site. An analysis of nearby recreation fee sites with similar amenities shows the proposed recreation fees that would be charged at the proposed recreation fee site are reasonable and typical of similar recreation fee sites in the area.

DATES: If approved, the proposed recreation fees would be established no earlier than six months following the publication of this notice in the Federal Register.

ADDRESSES: National Forests of Florida, Attention: Recreation Fees, 325 John Knox Road Building F, Suite 210, Tallahassee, FL 32303.

FOR FURTHER INFORMATION CONTACT: Derrick Washington, Recreation Program Manager, 850-523-8500 or derrick.washington@usda.gov.

SUPPLEMENTARY INFORMATION: The Federal Lands Recreation Enhancement Act (16 U.S.C. 6803(b)) requires the Forest Service to publish in the Federal Register a six-month advance notice of establishment of proposed recreation fee sites. In accordance with Forest Service Handbook 2309.13, chapter 30, the Forest Service will publish the proposed recreation fee site and proposed recreation fees in local newspapers and other local publications for public comment. Most of the proposed recreation fees would be spent where they are collected to enhance the visitor experience at the proposed recreation fee site.

A proposed standard amenity recreation fee of $5 per day per vehicle and $40 per season or year per vehicle would be charged at Prospect Bluff Historic Site. The National Forests of Florida Day Use Pass and the America the Beautiful—the National Parks and Federal Recreational Lands Pass would be honored at this proposed standard amenity recreation fee site.

Expenditures of recreation fees collected at the proposed recreation fee site would enhance recreation opportunities, improve customer service, and address maintenance needs. Once public involvement is complete, the proposed recreation fee site and proposed recreation fees will be reviewed by a Recreation Resource Advisory Committee prior to a final decision and implementation.

Dated: August 27, 2024.
Jacqueline Emanuel,
Associate Deputy Chief, National Forest System.

[FR Doc. 2024-19610 Filed 8-30-24; 8:45 am]

BILLING CODE 3411-15-P